DEPARTMENT OF TRANSPORTATION

Federal Aviation Administration

Policy Statement PS-ACE100-2002-005, Circuit Breakers and Fuses, Section 23.1357(d)

AGENCY: Federal Aviation Administration, DOT.

ACTION: Notice of issuance of policy statement.

SUMMARY: This notice announces policy statement PS-ACE100-2002-005 on Circuit Breakers and Fuses. The policy statement provides clarification on installed circuit breakers, which includes either primary or secondary (in-line) circuit protection. It also clarifies policy contained in advisory circular AC-23-17A. The policy applies to normal, utility, acrobatic, and commuter category airplanes as well as non-rigid airships certificated in the normal category with nine seats or fewer, excluding the pilot's seat. This notice is necessary to inform manufacturers and modifiers of these aircraft about this policy.

DATES: Policy statement PS-ACE100-2002-005 was issued by the Manager of the Small Airplane Directorate on February 23, 2004.

How to Obtain Copies: The policy statement will be available on the Internet at http://www.faa.gov/certification/aircraft. You may obtain a paper copy of PS-ACE100-2002-005 either by writing to the Small Airplane Directorate, Regulations and Policy Office, ACE-111, 901 Locust, Kansas City, MO 64106; by calling the office at telephone 816-329-4127; or by faxing your request to Mr. Wes Ryan at 816-329-4090.

Issued in Kansas City, Missouri, on February 23, 2004.
James E. Jackson,
Acting Manager, Small Airplane Directorate, Aircraft Certification Service.

[FR Doc. 04-6749 Filed 3-25-04; 8:45 am]

BILLING CODE 4910-13-P